DEPARTMENT OF JUSTICE

Antitrust Division

Notice Pursuant to the National Cooperative Research and Production Act of 1993—Naval Surface Technology & Innovation

Notice is hereby given that, on January 13, 2025, pursuant to section 6(a) of the National Cooperative Research and Production Act of 1993, 15 U.S.C. 4301 et seq. (“the Act”), Naval Surface Technology & Innovation (“NSTIC”) has filed written notifications simultaneously with the Attorney General and the Federal Trade Commission disclosing changes in its membership. The notifications were filed for the purpose of extending the Act's provisions limiting the recovery of antitrust plaintiffs to actual damages under specified circumstances.

Specifically, Active Optical Systems, LLC, Albuquerque, NM; SIXGEN, Inc., Annapolis, MD; Ursa Major Technologies, Inc., Berthoud, CO; Continuous Composites, Inc., Coeur d'Alene, ID; Left Coast Engineering, a dba of Park Tours, Inc., Escondido, CA; DZYNE Technologies, LLC, Fairfax, VA; Canvas II, LLC, Huntsville, AL; J12 Solutions, LLC, Huntsville, AL; Russell Technical Consulting Services, Huntsville, AL; Olson Custom Designs, LLC, Indianapolis, IN; GrammaTech, Inc., Ithaca, NY; GuideTech, LLC, Kanab, UT; Raven Space Systems, Inc., Kansas City, MO; Unstructured Technologies, Inc., Loomis, CA; Orb Aerospace Inc., Lowell, MI; Utron Kinetics LLC, Manassas, VA; Sentry View Systems, Inc., Melbourne, FL; Electroimpact Inc., Mukilteo, WA; Honeywell Aerospace/EMS Defense Technologies, Norcross, GA; Tex-Tech Industries, Inc., North Monmouth, ME; Ravyn Technology Corporation, Olean, NY; Re:Build CR, Rock Hill, SC; WingXpand Inc, Saint Louis, MO; Firestorm Labs Inc., San Diego, CA; Qualcomm Technologies, Inc., San Diego, CA; TrellisWare Technologies, Inc., San Diego, CA; Mobilio Co., San Francisco, CA; Northstar Photonics, Inc., San Jose, CA; Free Form Fibers LLC, Saratoga Springs, NY; Convergent Manufacturing Technologies US, Inc., Seattle, WA; Symbiosis.io LLC, Smyrna, GA; Logos Technologies LLC, Springfield, VA; University of Florida—Institute of Applied Engineering, Inc., Tampa, FL; Rogue Signal Processing Corporation, Vienna, VA; ZeroMark, Inc., Watchung, NJ; Oaklea Simpson Security, LLC, Westminster, MD; and Wichita State University, Wichita, KS have been added as parties to this venture.

No other changes have been made in either the membership or planned activity of the group research project. Membership in this group research project remains open, and NSTIC intends to file additional written notifications disclosing all changes in membership.

On October 8, 2019, NSTIC filed its original notification pursuant to section 6(a) of the Act. The Department of Justice published a notice in the Federal Register pursuant to section 6(b) of the Act on November 12, 2019 (84 FR 61071).

The last notification was filed with the Department on October 10, 2024. A notice was published in the Federal Register pursuant to section 6(b) of the Act on December 20, 2024 (89 FR 104210).

Suzanne Morris,
Deputy Director Civil Enforcement Operations, Antitrust Division.

[FR Doc. 2025-03215 Filed 2-27-25; 8:45 am]

BILLING CODE P